DEPARTMENT OF LABOR

Employment and Training Administration

[TA-W-63,317]

Union Carbide Corporation, a Subsidiary of the Dow Chemical Company, West Virginia Operations, South Carleston Technology Park, South Charleston, WV; Notice of Revised Determination on Reconsideration of Alternative Trade Adjustment Assistance

On August 21, 2008, the Department of Labor (Department) received a request for administrative reconsideration of the Department's negative determination regarding eligibility to apply for Alternative Trade Adjustment Assistance (ATAA) applicable to workers and former workers of the subject firm.

On July 18, 2008, the Department issued a certification regarding the subject workers' eligibility to apply for Trade Adjustment Assistance (TAA) and a negative determination regarding their eligibility to apply for ATAA. The Department's Notice of determination was published in the Federal Register on July 30, 2008 (73 FR 44283). The ATAA investigation determined that, although the workers possess skills that are not easily transferrable and a significant number of workers in the workers' firm are 50 years of age or older, conditions within the chemical industry are not adverse.

A Notice of Affirmative Determination Regarding Application for Reconsideration, applicable to workers and former workers of the subject firm, was issued on August 26, 2008, and will soon be published in the Federal Register.

During the reconsideration investigation, the Department received new information which indicated that employment related to the chemical industry in the state of West Virginia and in the county in which the subject firm resides has declined in the relevant time period and that the employment in the chemical industry is projected to decrease in the local (state and county) economies.

Conclusion

After careful review of the additional facts obtained on reconsideration, I conclude that the requirements of Section 246 of the Trade Act of 1974, as amended, have been met for workers at the subject firm.

In accordance with the provisions of the Act, I make the following revised determination:

All workers of Union Carbide Corporation, a Subsidiary of Dow Chemical Company, West Virginia Operations, South Charleston Technology Park, South Charleston, West Virginia, who became totally or partially separated from employment on or after May 5, 2007 through July 18, 2010, are eligible to apply for alternative trade adjustment assistance under Section 246 of the Trade Act of 1974.

Signed at Washington, DC, this 2nd day of September 2008.
Elliott S. Kushner,
Certifying Officer, Division of Trade Adjustment Assistance.

[FR Doc. E8-21321 Filed 9-11-08; 8:45 am]

BILLING CODE 4510-FN-P